FEDERAL COMMUNICATIONS COMMISSION

47 CFR Part 73

[DA 01-2486; MM Docket No. 00-172; RM-9963]

Radio Broadcasting Services; McConnelsville, OH

AGENCY: Federal Communications Commission.

ACTION: Final rule.

SUMMARY: At the request of Donald Staats this document alots Channel 279A to McConnelsville, Ohio. See 65 FR 59164, published October 4, 2000. The reference coordinates for the Channel 279A allotment at McConnelsville, Ohio, are 39-38-48 and 81-50-43. With this action, the proceeding is terminated.

DATES: Effective December 11, 2001.

FOR FURTHER INFORMATION CONTACT: Robert Hayne, Mass Media Bureau (202) 418-2177.

SUPPLEMENTARY INFORMATION: This is a synopsis of the Commission's Report and Order in MM Docket No. 00-172, adopted October 24, 2001, and released October 26, 2001. The full text of this decision is available for inspection and copying during normal business hours in the FCC's Reference Information Center at Portals II, CY-A257, 445 12th Street, SW., Washington, DC. The complete text of this decision may also be purchased from the Commission's copy contractor, Qualex International, Portals ll, 445 12th Street, SW., Room CY-B402, Washington, DC. 20554, telephone 202-863-2893, facsimile 202-863-2898, or via e-mail qualexint@aol.com.

List of Subjects in 47 CFR Part 73

Radio Broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Ohio, is amended by adding Channel 279A at McConnelsville.

Federal Communications Commission.
John A. Karousos,
Chief, Allocations Branch, Policy and Rules Division, Mass Media Bureau.

[FR Doc. 01-28208 Filed 11-8-01; 8:45 am]

BILLING CODE 6712-01-P